DEPARTMENT OF COMMERCE

National Oceanic and Atmospheric Administration

[RTID 0648-XB916]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) April 18-20, 2022.

DATES: The Snapper Grouper AP will meet from 1:30 p.m. until 5 p.m. on April 18, 2022; from 9 a.m. until 4:30 p.m. on April 19, and 9 a.m. until 12 p.m. on April 20, 2022.

ADDRESSES:

Meeting address: Crowne Plaza Hotel, 4831 Tanger Outlet Blvd., North Charleston, SC 29418; phone: (843) 744-4422.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including agendas, overviews, and briefing book materials will be posted on the Council's website at: http://safmc.net/safmc-meetings/current-advisory-panel-meetings. Webinar registration links for the meeting will also be available from the Council's website.

The Snapper Grouper AP will discuss and provide recommendations on the following topics: Management options considered to reduce release mortality in the snapper grouper fishery through Regulatory Amendment 35 to the Snapper Grouper Fishery Management Plan; options being developed for recreational permitting and reporting through Snapper Grouper Amendment 46; management actions considered for greater amberjack through Snapper Grouper Amendment 49; actions considered for snowy grouper through Snapper Grouper Amendment 51; and actions considered for golden tilefish and blueline tilefish through Snapper Grouper Amendment 52. The AP will also provide information to develop a Fishery Performance Report for black sea bass, receive an update on Snapper Grouper Amendment 53 to revise catch levels and rebuilding for gag grouper, elect a chair and vice chair, and address other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 28, 2022.
Tracey L. Thompson,
Acting Deputy Director, Office of Sustainable Fisheries, National Marine Fisheries Service.

[FR Doc. 2022-06841 Filed 3-30-22; 8:45 am]

BILLING CODE 3510-22-P